DEPARTMENT OF TRANSPORTATION

National Highway Traffic Safety Administration

[Docket No. NHTSA-2000-7173; Notice 2]

Decision That Nonconforming 1988-1990 Jaguar XJS and XJ6 Passenger Cars Are Eligible for Importation

AGENCY: National Highway Traffic Safety Administration (NHTSA), DOT.

ACTION: Notice of decision by NHTSA that nonconforming 1988-1990 Jaguar XJS and XJ6 passenger cars are eligible for importation.

SUMMARY: This notice announces the decision by NHTSA that 1988-1990 Jaguar XJS and XJ6 passenger cars not originally manufactured to comply with all applicable Federal motor vehicle safety standards are eligible for importation into the United States because they are substantially similar to vehicles originally manufactured for importation into and sale in the United States and certified by their manufacturer as complying with the safety standards (the U.S. certified version of the 1988-1990 Jaguar XJS and XJ6), and they are capable of being readily altered to conform to the standards.

DATE: This decision is effective January 23, 2001.

FOR FURTHER INFORMATION CONTACT: George Entwistle, Office of Vehicle Safety Compliance, NHTSA (202-366-5306).

SUPPLEMENTARY INFORMATION:

Background

Under 49 U.S.C. § 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies of Baltimore, Maryland (“J.K.”) (Registered Importer 90-006) petitioned NHTSA to decide whether 1988-1990 Jaguar XJS and XJ6 Passenger cars are eligible for importation into the United States. NHTSA published notice of the petition on April 11, 2000 (65 FR 19429) to afford an opportunity for public comment. The reader is referred to that notice for a thorough description of the petition.

One comment was received in response to the notice of the petition, from Jaguar Cars (“Jaguar”), the U.S. representative of the manufacturer of the 1988-1990 Jaguar XJS and XJ6. In this comment, Jaguar addressed several inaccuracies that it had identified in the petition. First, Jaguar noted that the petition did not identify specific models that do not require the installation of a high mounted stop lamp to conform to Standard No. 108, Lamps, Reflective Devices, and Associated Equipment. Jaguar identified those as the 1990 Jaguar XJ6 and both the coupe and convertible models of the 1990 Jaguar XJS.

Jaguar next stated that the petition erroneously implied that motorized automatic safety belts had been installed on non-U.S. certified models of the 1988-1989 Jaguar XJS and the 1988-1990 Jaguar XJ6. Jaguar stated that motorized automatic safety belts were standard equipment only on vehicles built for the U.S. market and were not installed on any vehicles built for markets outside of the United States, including Canada. Jaguar stated that motorized automatic safety belts will have to be installed on non-U.S. certified models of the 1988-1989 Jaguar XJS, the 1989-1990 Jaguar XJ6, and the 1990 Jaguar XJS Coupe to conform those vehicles to Standard No. 208, Occupant Crash Protection.

Jaguar further stated that the petition erroneously implied that all models of the 1990 Jaguar XJS will require inspection and replacement of the driver's side air bag and knee bolster with U.S. model components where necessary. Jaguar stated that only the convertible model of this vehicle will require these measures.

Finally, Jaguar stated that the petition erroneously claimed that non-U.S. certified models of the 1988-1990 Jaguar XJS and XJ6 comply with the Bumper Standard found in 49 CFR part 581. Jaguar stated that Menasco struts must be installed on those vehicles to meet the requirements of the standard.

NHTSA accorded J.K. an opportunity to respond to Jaguar's comments. J.K. stated that it agrees with Jaguar that the high mounted stop lamp need not be replaced on all vehicles identified in the petition. J.K. stated that it will inspect all vehicles and replace the high mounted stop lamp with a U.S.-model component on vehicles that lack this equipment. J.K. also agreed with Jaguar that replacement of the driver's side air bag and knee bolster is only required on the 1990 Jaguar XJS convertible and that the 1988-1989 Jaguar XJS, the 1990 Jaguar XJS Coupe, and the 1989-1990 Jaguar XJ6 require the installation of U.S. model motorized automatic safety belts. Finally, J.K. agreed with Jaguar's comments that all vehicles covered by the petition require the installation of U.S. model Menasco struts to comply with the Bumper Standard.

In light of J.K.'s agreement with all of Jaguar's comments, and the fact that Jaguar did not contend that any of the vehicles covered by the petition are incapable of being “readily altered to comply with applicable motor vehicle safety standards,” NHTSA has decided to grant the petition.

Vehicle Eligibility Number for Subject Vehicles

The importer of a vehicle admissible under any final decision must indicate on the form HS-7 accompanying entry the appropriate vehicle eligibility number indicating that the vehicle is eligible for entry. VSP-336 is the vehicle eligibility number assigned to vehicles admissible under this notice of final decision.

Final Decision

Accordingly, on the basis of the foregoing, NHTSA hereby decides that 1988-1990 Jaguar XJS and XJ6 passenger cars not originally manufactured to comply with all applicable Federal motor vehicle safety standards are substantially similar to 1988-1990 Jaguar XJS and XJ6 passenger cars originally manufactured for importation into and sale in the United States and certified under 49 U.S.C. 30115, and are capable of being readily altered to conform to all applicable Federal motor vehicle safety standards.

Authority: 49 U.S.C. 30141(a)(1)(A) and (b)(1); 49 CFR 593.8; delegations of authority at 49 CFR 1.50 and 501.8.

Issued on: January 17, 2001.
Marilynne Jacobs,
Director, Office of Vehicle Safety Compliance.

[FR Doc. 01-1958 Filed 1-22-01; 8:45 am]

BILLING CODE 4910-59-P